DEPARTMENT OF ENERGY

Federal Energy Regulatory Commission

[Docket No. RP00-223-000]

Northern Natural Gas Company; Notice of Proposed Changes in FERC Gas Tariff

March 31, 2000.

Take notice that on March 27, 2000, Northern Natural Gas Company (Northern) tendered for filing to become part of Northern's FERC Gas Tariff, Fifth Revised Volume No. 1, the following tariff sheets to become effective April 27, 2000:

Fourth Revised Sheet No. 1

Fifth Revised Sheet No. 2

52 Revised Sheet No. 51

48 Revised Sheet No. 53

Third Revised Sheet No. 115

First Revised Sheet No. 125A

Original Sheet No. 125B

Original Sheet No. 125C

Original Sheet No. 125D

Original Sheet No. 125E

Original Sheet No. 125F

Third Revised Sheet No. 143

Eighth Revised Sheet No. 144

Second Revised Sheet No. 145

Fifth Revised Sheet No. 206

Fourth Revised Sheet No. 220

First Revised Sheet No. 251

Third Revised Sheet No. 252

Fourth Revised Sheet No. 225

Second Revised Sheet No. 261

Fifth Revised Sheet No. 263A

Third Revised Sheet No. 264

Fifth Revised Sheet No. 265

First Revised Sheet No. 271

Second Revised Sheet No. 290

Third Revised Sheet No. 300

Third Revised Sheet No. 302

Third Revised Sheet No. 414

Second Revised Sheet No. 415

Second Revised Sheet No. 416

Northern states that it is submitting these tariff sheets to implement a Limited Firm Throughput Service under new Rate Schedule LFT. Under this Rate Schedule, firm transportation service would be available subject to Northern's right to not schedule service in whole or in part on any day (a Limited Day), but not more than a maximum number of Limited Days per month (not to exceed ten) agreed to by Northern and Shipper in the LFT Service Agreement. Northern is proposing this service to offer greatly flexibility to shippers, and to address the needs of shippers that generally require firm service but are able to accommodate periodic interruption of service.

Northern states that copies of the filing were served upon Northern's customers and interested State Commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-8476 Filed 4-5-00; 8:45 am]

BILLING CODE 6717-01-M